DEPARTMENT OF THE INTERIOR

Bureau of Land Management

[OR-030-1020-PG; G 03-0211]

National Historic Oregon Trail Interpretive Center Advisory Board; Notice of Meeting

AGENCY: Bureau of Land Management (BLM), Vale District, Interior.

ACTION: Meeting notice for the National Historic Oregon Trail Interpretive Center (NHOTIC) Advisory Board.

SUMMARY: The National Historic Oregon Trail Interpretive Center Advisory Board will meet in the conference room at NHOTIC in Baker City, OR from 9 a.m. to 3 p.m., (Pacific Time PT) on Tuesday, August 5, 2003.

The meeting topics include a review of the Center Operations and Management, Strategic Plan, Committee Functions, development of a Program Action for 2003 and 2004, set up schedule of meetings for the coming year, and other matters as may reasonably come before the Board. The entire meeting is open to the public. For a copy of the information to be distributed to the Board members, please submit a written request to the Vale District Office 10 days prior to the meeting. Public comment is scheduled for 11 a.m. to 11:15 a.m., Pacific Time (PT).

FOR FURTHER INFORMATION CONTACT: Additional information concerning the NHOTIC Advisory Board may be obtained from Peggy Diegan, Management Assistant/Webmaster, Vale District Office, 100 Oregon Street, Vale, OR 97918 (541) 473-3144, or Peggy_Diegan@or.blm.gov.

Dated: June 23, 2003.
David R. Henderson,
District Manager.

[FR Doc. 03-16409 Filed 6-27-03; 8:45 am]

BILLING CODE 4310-33-P